DEPARTMENT OF HEALTH AND HUMAN SERVICES

Administration for Children and Families

Agency Recordkeeping/Reporting Requirements Under Emergency Review by the Office of Management and Budget (OMB)

Title: LIHEAP Program Integrity Assessment and Plan.

OMB No.: New Collection.

Description: Under prior guidance, the Chief Executive Officer in States, Tribes or Territories is required to certify in the LIHEAP State Plan that the grantee will uphold all rules, regulations, and policies associated with the LIHEAP program. As cited above, grantees must have in place policies that address waste, fraud and abuse.

Presidential Executive Order 13520, reducing Improper Payments and Eliminating Waste in Federal Programs, issued in November 2009, encourages Federal agencies to take deliberate and immediate action to eliminate fraud and improper payments. As part of the review of programs subsequent to this executive order, HHS has determined that additional information from each administering agency is necessary to assess grantee measures that are in place to prevent, detect or address waste, fraud and abuse in LIHEAP programs.

The Administration for Children and Families is requesting the Office of Management and Budget to authorize emergency processing of its information collection clearance of the LIHEAP Program Integrity Assessment and Plan in order for submission by grantees with their applications for fiscal year 2011 funding.

Respondents: State, Local or Tribal Governments.

Annual Burden Estimates
Instrument | Number of respondents | Number of responses per respondent | Average burden hours per response | Total burden hours
LIHEAP Program Integrity Assessment and Plan | 180 | 1 | 1 | 180
Detailed Model Plan | 65 | 1 | 1 | 65
Abbreviated Model Plan | 115 | 1 | .33 | 38
Estimated Total Annual Burden Hours |  |  |  | 283

Additional Information:

ACF is requesting that OMB grant a 180 day approval for this information collection under procedures for emergency processing by May 30, 2010. A copy of this information collection, with applicable supporting documentation, may be obtained by calling the Administration for Children and Families, Reports Clearance Officer, Robert Sargis at (202) 690-7275.

Comments and questions about the information collection described above should be directed to the Office of Information and Regulatory Affairs, Attn: OMB Desk Officer for ACF, Office of Management and Budget, Paperwork Reduction Project, 725 17th Street, NW., Washington, DC 20503, FAX 202-395-7285, or e-mail oira_submission@omb.eop.gov.

Dated: May 20, 2010.
Robert Sargis,
Reports Clearance Officer.

[FR Doc. 2010-11800 Filed 5-14-10; 8:45 am]

BILLING CODE 4184-01-M